DEPARTMENT OF ENERGY

Federal Energy Regulatory Commission

[Project Nos. 2146-126]

Alabama Power Company; Notice of Availability of Environmental Assessment

August 24, 2010.

In accordance with the National Environmental Policy Act of 1969 and the Federal Energy Regulatory Commission's (Commission) regulations, 18 CFR Part 380 (Order No. 486, 52 FR 47897), the Office of Energy Projects has reviewed an application submitted by Alabama Power Company (licensee) for non-project use of project lands and waters at the Coosa River Project (FERC No. 2146). An environmental assessment (EA) has been prepared as part of staff's review of the proposal. The proposed use would be located on Logan Martin Lake in Talladega County, Alabama.

In the application, the licensee proposes to issue all Shoreline Real Estate, LLC, to install recreational facilities for use by residents of the Lincoln Harbor development. The proposed facilities would consist of 15 floating, cluster docks accommodating a total of 176 watercraft, one concrete boat ramp, 2 wooden boardwalks, 2 asphalt-paved walking trails, and 2 wooden bridges. The applicant would also construct a paved parking lot and concrete loading pier, the majority of both to be located outside the project boundary. The loading pier will service a dry storage facility located outside of the project boundary. The EA contains Commission staff's analysis of the probable environmental impacts of the proposed action and concludes that approval of the proposal would not constitute a major federal action significantly affecting the quality of the human environment.

The EA is attached to a Commission order titled “Order Modifying and Approving Non-Project Use of Project Lands and Waters,” which was issued August 24, 2010, and is available for review and reproduction at the Commission's Public Reference Room, located at 888 First Street, NE., Room 2A, Washington, DC 20426. The EA may also be viewed on the Commission's Web site at http://www.ferc.gov using the “elibrary” link. Enter the docket number (P-2146) in the docket number field to access the document. For assistance, contact FERC Online Support at FERCOnlineSupport@ferc.gov or toll-free at 1-866-208-3372, or for TTY, (202) 502-8659.

Kimberly D. Bose,
Secretary.

[FR Doc. 2010-21623 Filed 8-30-10; 8:45 am]

BILLING CODE 6717-01-P